DEPARTMENT OF VETERANS AFFAIRS

38 CFR Part 17

RIN 2900-AM03

Eligibility for Health Care Benefits for Certain Filipino Veterans in the United States

AGENCY: Department of Veterans Affairs.

ACTION: Proposed rule.

SUMMARY: Department of Veterans Affairs (VA) medical regulations describe veterans who are eligible to receive health care from VA in the United States. We are proposing to amend these regulations to include any Filipino Commonwealth Army veteran who was recognized by authority of the U.S. Army as belonging to organized Filipino guerilla forces or new Philippine Scouts, if such veteran or scout resides in the U.S., and is a citizen or lawfully admitted to the United States for permanent residence. Under this proposal these certain veterans would be eligible for VA hospital care, nursing home care, and outpatient medical services in the United States in the same manner and subject to the same terms and conditions as apply to U.S. veterans. This proposal would allow those veterans to receive health care from VA.

DATES: Comments must be received on or before March 14, 2005.

ADDRESSES: Written comments may be submitted by: mail or hand-delivery to Director, Regulations Management (00REG1), Department of Veterans Affairs, 810 Vermont Ave., NW., Room 1068, Washington, DC 20420; or fax to (202) 273-9026; e-mail to VARegulations@mail.va.gov; or, through http://www.Regulations.gov. Comments should indicate that they are submitted in response to “RIN 2900-AM03.” All comments received will be available for public inspection in the Office of Regulation Policy and Management, Room 1063B, between the hours of 8 a.m. and 4:30 p.m., Monday through Friday (except holidays). Please call (202) 273-9515 for an appointment.

FOR FURTHER INFORMATION CONTACT: Tony Guagliardo, Deputy Director of Business Policy, Chief Business Office (163), Veterans Health Administration, Department of Veterans Affairs, 810 Vermont Avenue, NW., Washington, DC 20420, (202) 254-0406. (This is not a toll free number.)

SUPPLEMENTARY INFORMATION: On December 6, 2003, Public Law 108-170, the Veterans Health Care, Capital Asset, and Business Improvement Act of 2003, was enacted authorizing VA to provide hospital care, nursing home care, and outpatient medical services to certain Filipino veterans in the same manner and subject to the same terms and conditions as apply to U.S. veterans. Verification of service is usually demonstrated through issuance of an official “Certification of Military Service” or other acceptable documents demonstrating service under commanders appointed, designated, or subsequently recognized by the Commander-in-Chief, Southwest Pacific Area, other competent authority in the Army of the United States or service department and who were discharged or released from service under conditions other than dishonorable (see 38 CFR 3.1(y), 3.40 and 3.203).

These “certain Filipino veterans” are Commonwealth Army veterans, including those who were recognized by authority of the U.S. Army as belonging to organized Filipino guerilla forces, and new Philippine Scouts. These veterans must reside in the U.S., and be a citizen, or lawfully admitted to the United States for permanent residence.

Commonwealth Army Veterans, including those who were recognized by authority of the U.S. Army as belonging to organized Filipino guerilla forces, and new Philippine Scouts are not currently eligible for VA care in the United States if they do not meet the residency and citizenship requirements. This rule proposes to amend VA medical regulation 38 CFR 17.39 to include Filipino Commonwealth Army veterans, including those who were recognized by authority of the U.S. Army as belonging to organized Filipino guerilla forces, and new Philippine Scouts who reside in the U.S. and who are citizens, or lawfully admitted to the United States for permanent residence as persons who are eligible for VA health care benefits within the United States on the same basis as U.S. veterans. This proposed rule also establishes requirements for proof of citizenship or lawful permanent residency status that veterans must provide in order to be eligible for VA health care benefits.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This proposed rule would have no such effect on State, local, or tribal governments, or the private sector.

Paperwork Reduction Act

Under the Paperwork Reduction Act of 1995 (44 U.S.C. 3501-3521), a collection of information is set forth in proposed 38 CFR 17.39. Accordingly, under section 3507(d) of the Act, VA has submitted a copy of this rulemaking action to the Office of Management and Budget (OMB) for its review of the proposed collection of information.

OMB assigns a control number for each collection of information it approves. VA may not conduct or sponsor, and a person is not required to respond to a collection of information unless it displays a currently valid OMB control number.

Comments on the proposed collections of information should be submitted to the Office of Management and Budget, Attention: Desk Officer for the Department of Veterans Affairs, Office of Information and Regulatory Affairs, Washington, DC 20503, with copies mailed or hand-delivered to: Director, Regulations Management (00REG1), Department of Veterans Affairs, 810 Vermont Ave., NW., Room 1068, Washington, DC 20420. Comments should indicate that they are submitted in response to “RIN 2900-AM03.”

Title: Eligibility for Health Care Benefits for Certain Filipino Veterans.

Summary of Collection of Information: Under proposed § 17.39, Filipino veterans who reside in the U.S., and who are citizens, or lawfully admitted for permanent residence can be enrolled into the VA healthcare system and receive medical care from VA. VA is revising the currently approved collection of information entitled “Application and Renewal for Health Benefits”, OMB number 2900-0091 to include Filipino veterans eligible under this rule.

Description of the need for information and proposed use of information: The information is needed to establish eligibility and priority group and for purposes of enrollment into the VA healthcare system.

Description of likely respondents: Veterans who are eligible to receive health care from VA including Filipino veterans eligible under this rule.

Estimated number of respondents: 1,900,000 revised to 1,904,940.

Estimated frequency of responses: 1.

Estimated annual burden per collection: 45 minutes for the 10-10EZ, 20 minutes for the 10-10EZR.

Estimated total annual reporting and record keeping burden: 1,005,000 current revised to 1,008,180 hours.

The Department considers comments by the public on proposed collections of information in—

• Evaluating whether the proposed collections of information are necessary for the proper performance of the functions of the Department, including whether the information will have practical utility;

• Evaluating the accuracy of the Department's estimate of the burden of the proposed collections of information, including the validity of the methodology and assumptions used;

• Enhancing the quality, usefulness, and clarity of the information to be collected; and

• Minimizing the burden of the collections of information on those who are to respond, including responses through the use of appropriate automated, electronic, mechanical, or other technological collection techniques or other forms of information technology, e.g., permitting electronic submission of responses.

Executive Order 12866

This document has been reviewed by the Office of Management and Budget under Executive Order 12866.

Regulatory Flexibility Act

The Secretary hereby certifies that this proposed regulatory amendment will not have a significant economic impact on a substantial number of small entities as they are defined in the Regulatory Flexibility Act (RFA), 5 U.S.C. 601-612. This proposed amendment would not directly affect any small entities. Only individuals could be directly affected. Therefore, pursuant to 5 U.S.C. 605(b), this proposed amendment is exempt from the initial and final regulatory flexibility analysis requirements of sections 603 and 604.

Catalog of Federal Domestic Assistance Numbers

The Catalog of Federal Domestic Assistance numbers for the programs affected by this document are 64.005, 64.007, 64.008, 64.009, 64.010, 64.011, 64.012, 64.013, 64.014, 64.015, 64.016, 64.018, 64.019, 64.022, and 64.025.

List of Subjects in 38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

Approved: October 7, 2004.
Anthony J. Principi,
Secretary of Veterans Affairs.

For the reasons set out in the preamble, we propose to amend 38 CFR part 17, as set forth below:

PART 17—MEDICAL

1. The authority citation for part 17 continues to read as follows:

Authority: 38 U.S.C. 501, 1721, unless otherwise noted.

2. Revise § 17.39 to read as follows:

§ 17.39 Certain Filipino veterans.

(a) Any Filipino Commonwealth Army veteran, including one who was recognized by authority of the U.S. Army as belonging to organized Filipino guerilla forces, or any new Philippine Scout is eligible for hospital care, nursing home care, and outpatient medical services within the United States in the same manner and subject to the same terms and conditions as apply to U.S. veterans, if such veteran or scout resides in the United States and is a citizen or lawfully admitted to the United States for permanent residence. For purposes of these VA health care benefits, the standards described in 38 CFR 3.42(c) will be accepted as proof of U.S. citizenship or lawful permanent residence.

(b) Commonwealth Army Veterans, including those who were recognized by authority of the U.S. Army as belonging to organized Filipino guerilla forces, and new Philippine Scouts are not eligible for VA health care benefits if they do not meet the residency and citizenship requirements described in § 3.42(c).

[FR Doc. 05-493 Filed 1-10-05; 8:45 am]

BILLING CODE 8320-01-P